INTERNATIONAL TRADE COMMISSION

[Investigations Nos. 731-TA-678-679 and 681-682 (Review)]

Stainless Steel Bar From Brazil, India, Japan, and Spain

Determinations

On the basis of the record¹ developed in the subject five-year reviews, the United States International Trade Commission determines, pursuant to section 751(c) of the Tariff Act of 1930 (19 U.S.C. § 1675(c)) (the Act), that revocation of the antidumping duty orders on stainless steel bar from Brazil, India, Japan, and Spain would be likely to lead to continuation or recurrence of material injury to an industry in the United States within a reasonably foreseeable time.

¹ The record is defined in sec. 207.2(f) of the Commission's Rules of Practice and Procedure (19 CFR § 207.2(f)).

Background

The Commission instituted these reviews on December 30, 1999 (64 FR 73579) and determined on April 6, 2000, that it would conduct full reviews (65 FR 20834, April 18, 2000). Notice of the scheduling of the Commission's reviews and of a public hearing to be held in connection therewith was given by posting copies of the notice in the Office of the Secretary, U.S. International Trade Commission, Washington, DC, and by publishing the notice in the Federal Register on July 6, 2000 (65 FR 41728). The hearing was held in Washington, DC, on January 30, 2001, and all persons who requested the opportunity were permitted to appear in person or by counsel.

The Commission transmitted its determinations in these investigations to the Secretary of Commerce on March 26, 2001. The views of the Commission are contained in USITC Publication 3404 (March 2001), entitled Stainless Steel Bar from Brazil, India, Japan, and Spain: Investigations Nos. 731-TA-678-679 and 681-682 (Review).

By order of the Commission.
Issued: March 26, 2001.
Donna R. Koehnke,
Secretary.

[FR Doc. 01-8274 Filed 4-3-01; 8:45 am]

BILLING CODE 7020-02-P